DEPARTMENT OF TRANSPORTATION

Federal Aviation Administration

[Docket No: FAA-2025-2674]

Deadline for Notification of Intent To Use the Airport Improvement Program (AIP) Primary, Cargo, Nonprimary Entitlement Funds, and Discretionary Funds Available to Date for Fiscal Year 2025

AGENCY: Federal Aviation Administration (FAA), DOT

ACTION: Federal Register Notice.

SUMMARY: This action announces April 1, 2025, as the deadline for each airport sponsor to notify the FAA if it will use its Fiscal Year (FY) 2025 entitlement funds (referred to as apportionments) to accomplish Airport Improvement Program (AIP) eligible projects. Each sponsor has previously identified to the FAA such projects through the Airports Capital Improvement Plan (ACIP) process. This action also announces April 28, 2025, as the deadline for an airport sponsor to submit a final grant application, based on bids, for grants that will be funded with FY 2025 entitlement funds only.

FOR FURTHER INFORMATION CONTACT: David F. Cushing, Manager, Airports Financial Assistance Division, APP-500, at (202) 267-8827.

SUPPLEMENTARY INFORMATION: Title 49 U.S.C. 47105(f) provides that the sponsor of an airport for which entitlement funds are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds.

The AIP grant program is authorized by Public Law 118-63, the “Federal Aviation Administration Reauthorization Act, 2024,” enacted on May 16, 2024, which permits the FAA to make grants for planning and airport development and airport noise compatibility under the AIP through September 30, 2028. As of this notice, the funds allocated to the FAA to fund the AIP grant program are appropriated through December 20, 2024, by Public Law 118-83, the “Continuing Appropriations and Extensions Act, 2025,” enacted on September 26, 2024. Apportioned funds will be subject to allocation formulas prescribed by 49 U.S.C. 47114 and any other applicable legislative text.

This notice applies only to sponsors of airports that have entitlement funds appropriated for FY 2025 to use on eligible and justified projects. State aviation agencies participating in the FAA's State Block Grant Program, as prescribed by 49 U.S.C. 47128, are responsible for notifying the FAA which covered nonprimary airports in their programs will be using their entitlement funds for eligible and justified projects.

An airport sponsor intending to apply any of its available entitlement funds, including those unused, but still available in accordance with 49 U.S.C. 47117 from prior years, must notify the FAA of its intent to submit a grant application by 12:00 p.m. prevailing local time on April 1, 2025.

This notice must be in writing and stipulate the total amount the sponsor intends to use for eligible and justified projects during FY 2025, including those entitlement funds not obligated from prior years that remain available in accordance with 49 U.S.C. 47117 (also known as protected carryover). These notifications are critical to ensure efficient planning and administration of the AIP. Absent the notification of intent to submit a grant application by the above-mentioned deadline, the FAA will carry over the available entitlement funds on May 16, 2025. These funds will not be available again to the airport sponsor until the beginning of FY 2026.

The final grant application deadline for entitlement funds only is Monday, April 28, 2025. The final grant application funding requests should be based on bids, not estimates. Dates are subject to possible adjustment based on future legislation. As of the publication of this notice, the appropriations and the authorization legislation for the FAA expire on December 20, 2024, and September 30, 2028, respectively.

Sponsors wishing to be considered for AIP discretionary funding throughout FY 2025 should submit applications as soon as possible to FAA Regional or Airport District Offices. The FAA considers all applications submitted if they meet all existing laws, Federal regulations, and FAA policy.

The FAA considers applications on a rolling basis. The final deadline to submit grant applications competing for discretionary funding, in addition to entitlement funding, is June 16, 2025, by 11:59 p.m. Eastern Daylight Time. Under 49 U.S.C. 47115, the FAA considers projects that are the most appropriate to carry out the statute at any time prior to September 30, 2025.

The FAA has determined these deadlines will expedite and facilitate the FY 2025 grant-making process.

Issued in Washington, DC on December 5, 2024.
David F. Cushing,
Manager, Airports Financial Assistance Division.

[FR Doc. 2024-29036 Filed 12-10-24; 8:45 am]

BILLING CODE 4910-13-P